DEPARTMENT OF THE INTERIOR

Bureau of Land Management

[LLNM01000 L16100000 DO0000]

Notice of Intent To Prepare a Resource Management Plan Amendment/Environmental Assessment for the Farmington Field Office Visual Resources

AGENCY: Bureau of Land Management, Interior.

ACTION: Notice of Intent.

SUMMARY: In compliance with the National Environmental Policy Act of 1969 (NEPA), as amended, and the Federal Land Policy and Management Act (FLPMA) of 1976, as amended, the Bureau of Land Management (BLM) Farmington Field Office (Field Office), Farmington, New Mexico, intends to amend the 2003 Farmington Resource Management Plan (RMP) and prepare an associated Environmental Assessment (EA) to address the Visual Resource Management (VRM) in the planning area. By this Notice, the Field Office is announcing the beginning of the scoping process to solicit public comments and identify issues.

DATES: This Notice initiates the public scoping process for the RMP amendment and associated EA. Comments on issues may be submitted in writing until July 13, 2011. The date(s), time(s), and location(s) of any scoping meetings will be announced at least 15 days in advance through local media, newspapers and the BLM Web site at: http://www.blm.gov/nm/st/en.html. In order to be included in the Draft RMP amendment/EA, all comments must be received prior to the close of the scoping period or 15 days after the last public meeting, whichever is later. The Field Office will provide additional opportunities for public participation upon publication of the Draft RMP amendment/EA.

ADDRESSES: You may submit comments on issues and planning criteria related to the Farmington Visual Resource Management RMP amendment/EA by any of the following methods:

• Web Site: http://www.blm.gov/nm/st/en.html.

• E-mail: FFO_Comments@blm.gov.

• Fax: 505-599-8999 Attn: VRM ID Team.

• Mail: BLM Farmington Field Office, Attn: VRM ID Team, 1235 La Plata Highway, Farmington, New Mexico 87401.

Documents pertinent to this proposal may be examined at the Farmington Field Office.

FOR FURTHER INFORMATION CONTACT: For further information and/or to have your name added to our mailing list, contact Janelle Alleman, Outdoor Recreation Planner; telephone 505-599-8944; address 1235 La Plata Highway, Farmington, New Mexico 87401; e-mail at FFO_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM Farmington Field Office, Farmington, New Mexico, intends to prepare an RMP amendment and associated EA to address the visual resource management in the planning area. The planning area is located in San Juan, Rio Arriba, and Sandoval Counties, New Mexico, and encompasses 1.4 million acres of public land in these counties. The purpose of the public scoping process is to determine relevant issues that will influence the scope of the environmental analysis, including alternatives, and guide the planning process. The RMP completed in 2003 directs the Field Office to conduct a review of VRM objectives upon the completion of a new visual resource inventory. That inventory was completed in March of 2009. The purpose of this RMP amendment/EA is to address the need to update the VRM objectives in the 2003 RMP.

The BLM is required to manage public lands in such a manner as to protect the quality of the scenic (visual) values of these lands. The RMP amendment/EA will determine if, over time, changes in the condition of the visual resources within the planning area warrant changes to VRM management objectives, and to what degree. VRM objectives (or classes) provide the basic visual management standards for design and development of surface disturbing projects on public lands and are determined through careful analysis and consideration of other land uses, needs and demands. VRM Classes I through IV are designated in the RMP and establish the allowable threshold of detectable visual modification. The associated management objectives dictate the level of protection, which range from preservation with a VRM Class I designation to major modification with a VRM Class IV.

The BLM will use an interdisciplinary approach to develop the plan in order to consider the variety of resource issues and concerns identified. Specialists with expertise in the following disciplines will be involved in the planning process: Rangeland management, minerals and geology, outdoor recreation, archaeology, paleontology, wildlife, lands and realty, hydrology, soils, sociology, economics, and wilderness.

At present, the BLM has identified the following preliminary planning issues: (1) How should visual resources be managed to address areas of scenic quality in contrast to increasing development? (2) How should changes in the visual resource inventory be used to address modifications to the visual resource management classes? (3) What type of protective management prescriptions should be considered to address visual resources?

Proposed planning criteria include the following:

1. The RMP amendment/EA will comply with FLPMA, NEPA, and all other applicable laws, regulations, and policies;

2. For program-specific guidance for decisions at the land use planning level, the process will follow the BLM's policies in the Land Use Planning Handbook, H-1601-1;

3. Public participation and collaboration will be an integral part of the planning process;

4. The BLM will strive to make decisions in the plan compatible with the existing plans and policies of adjacent local, state, and Federal agencies and local American Indian tribes, as long as the decisions are consistent with the purposes, policies, Federal laws, and regulations applicable to public lands;

5. The RMP amendment/EA will recognize valid existing rights;

6. The RMP amendment/EA will incorporate, where applicable, management decisions brought forward from existing planning documents;

7. The BLM staff will work cooperatively and collaboratively with cooperating agencies and all other interested groups, agencies, and individuals;

8. The BLM and cooperating agencies will jointly develop alternatives for resolution of resource management issues and management concerns;

9. GIS and metadata information will meet Federal Geographic Data Committee standards, as required by Executive Order 12906 and all other applicable BLM data standards will be followed;

10. The planning process will provide for ongoing consultation with American Indian tribes to identify strategies for protecting recognized traditional uses;

11. Planning and management direction will focus on the relative values of resources and not the combination of uses that will give the greatest economic return or economic output;

12. The BLM will consider the quantity and quality of non-commodity resource values;

13. Where practicable and timely for the planning effort, the best available scientific information, research, and new technologies will be used;

14. Actions must comply with all applicable regulations and must be reasonable, achievable, and allow for flexibility while supporting adaptive management principles; and

15. The Economic Profile System will be used as one source of demographic and economic data for the planning process, which will provide baseline data and contribute to estimates of existing and projected social and economic conditions.

The BLM will utilize and coordinate the NEPA commenting process to satisfy the public involvement process for Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders that may be interested in or affected by the BLM's decision on this project are invited to participate in the scoping process and, if eligible, may request or be requested by the BLM to participate as a cooperating agency. You may submit comments on issues and planning criteria in writing to the BLM at any public scoping meeting, or you may submit them to the BLM using one of the methods listed in the ADDRESSES section above.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Linda S. C. Rundell,
State Director.

[FR Doc. 2011-14491 Filed 6-10-11; 8:45 am]

BILLING CODE 4310-VB-P